DEPARTMENT OF HOMELAND SECURITY

Coast Guard

33 CFR Part 117

[Docket No. USCG-2022-0222]

RIN 1625-AA09

Drawbridge Operation Regulation; Okeechobee Waterway, Stuart, FL

AGENCY: Coast Guard, DHS.

ACTION: Notification of inquiry, request for comments.

SUMMARY: The Coast Guard is seeking information and comments on a proposed change to the operating regulations for the Florida East Coast (FEC) Railroad Bridge, mile 7.4, and the SR 707 (Dixie Hwy) Bridge, mile 7.5, across the Okeechobee Waterway (OWW), at Stuart, Florida. In anticipation of passenger rail service across the FEC Railroad Bridge, the Coast Guard intends to propose a change that will allow the drawbridge to operate on a more predictable schedule. The Coast Guard intends to propose a similar operating schedule for the adjacent SR 707 (Dixie Hwy) Bridge. We invite your comments on this proposed rulemaking.

DATES: Comments and related material must reach the Coast Guard on or before July 5, 2022.

ADDRESSES: You may submit comments identified by docket number USCG-2022-0222 using Federal Decision Making Portal at https://www.regulations.gov.

See the “Public Participation and Request for Comments” portion of the SUPPLEMENTARY INFORMATION section below for instructions on submitting comments.

FOR FURTHER INFORMATION CONTACT: If you have questions on this notice, call or email Ms. Jennifer Zercher, Bridge Management Specialist, Seventh Coast Guard District, telephone 305-415-6740, email Jennifer.N.Zercher@uscg.mil.

SUPPLEMENTARY INFORMATION:

I. Table of Abbreviations

CFR Code of Federal Regulations

DHS Department of Homeland Security

E.O. Executive Order

FR Federal Register

§ Section Symbol

U.S.C. United States Code

FEC Florida East Coast

SR State Route

WAMS Waterways Analysis and Management System

OWW Okeechobee Waterway

HWY Highway

II. Background, Purpose and Purpose

The FEC Railroad Bridge across the OWW, mile 7.4, at Stuart, Florida is a single-leaf bascule railroad bridge with a six-foot vertical clearance at mean high water in the closed position. The normal operating schedule for the bridge is found in 33 CFR 117.317(c).

The SR 707 (Dixie Hwy) Bridge across the OWW, mile 7.5, at Stuart, Florida is a double-leaf bascule bridge with a 14-foot vertical clearance at mean high water in the closed position. The normal operating schedule for the bridge is found in 33 CFR 117.317(d). Navigation on the waterway is commercial and recreational.

In response to All Aboard Florida Railway's (Brightline) expansion project development and environmental study, U.S. Coast Guard Sector Miami Waterways Management Office conducted a Waterways Analysis and Management System (WAMS) review of the Intracoastal Waterway from miles 925-1005 in 2018. The WAMS included a focused review of the railroad bridges over the St Lucie River (OWW) and Loxahatchee River. The WAMS concluded that, with the addition of passenger rail service, the FEC Railroad Bridge over the OWW would create an unreasonable obstruction to navigation if operated under the current regulation, 33 CFR 117.317(c). U.S. Coast Guard Captain of the Port Miami, based on the WAMS, recommended the regulation for the railroad bridge be changed to allow for reasonable usage of competing modes of transportation and provide a predictable opening schedule.

III. Information Requested

To aid us in further developing a proposed rule, we seek responses from waterway users to the following questions:

(1) Do you currently transit through the FEC Railroad Bridge crossing the Okeechobee Waterway, mile 7.4, at Stuart, Florida?

(2) How often do you transit this waterway?

(3) If railway traffic impedes your navigation of this area, how long are you normally delayed?

(4) How would you propose to regulate the balance of railway and maritime traffic in this area?

(5) What challenges have you experienced when transiting this area due to these bridges and/or railway activity?

(6) Is a 15 minute hourly opening schedule sufficient for marine traffic? If not, please explain why.

(7) Should the SR 707 (Dixie Hwy) Bridge opening schedule mirror the operating schedule of the FEC Railroad Bridge?

IV. Public Participation and Request for Comments

We encourage you to submit comments in response to this notice of inquiry through the Federal Decision Making Portal at https://www.regulations.gov. To do so, go to https://www.regulations.gov, type USCG-2022-0222 in the search box and click “Search.” Next, look for this document in the Search Results column, and click on it. Then click on the Comment option. In your submission, please include the docket number for this notice of inquiry and provide a reason for each suggestion or recommendation. If your material cannot be submitted using https://www.regulations.gov contact the person in the FOR FURTHER INFORMATION CONTACT section of this document for alternate instructions.

To view documents mentioned in this proposed rule as being available in the docket, find the docket as described in the previous paragraph, and then select “Supporting & Related Material” in the Document Type column. Public comments will also be placed in our online docket and can be viewed by following instructions on the https://www.regulations.gov Frequently Asked Questions web page. We review all comments received, but we may choose not to post off-topic, inappropriate, or duplicate comments that we receive. Additionally, if you go to the online docket and sign up for email alerts, you will be notified when comments are posted or a final rule is published.

We accept anonymous comments. Comments we post to https://www.regulations.gov will include any personal information you have provided. For more about privacy and submissions in response to this document, see DHS's eRulemaking System of Records notice (85 FR 14226, March 11, 2020).

We may hold a public meeting, if necessary, to receive oral comments on this Notice of Inquiry and will announce the date, time, and location in a separate document published in the Federal Register. If you signed up for docket email alerts mentioned in the paragraph above, you will receive an email notice when the public meeting notice is published and placed in the docket.

This document is issued under authority of 5 U.S.C. 552(a); 33 U.S.C. 499.

Dated: April 22, 2022.
Brendan C. McPherson,
Rear Admiral, U.S. Coast Guard, Commander Coast Guard Seventh District.

[FR Doc. 2022-09378 Filed 5-2-22; 8:45 am]

BILLING CODE 9110-04-P